DEPARTMENT OF COMMERCE

International Trade Administration

[A-475-822]

Amended Final Results of Antidumping Duty Administrative Review: Stainless Steel Plate in Coils from Italy

AGENCY: Import Administration, International Trade Administration, U.S. Department of Commerce.

ACTION: Notice of Amended Final Results of Antidumping Duty Administrative Review of Stainless Steel Plate in Coils from Italy.

EFFECTIVE DATE: December 12, 2002.

FOR FURTHER INFORMATION CONTACT: Stephen Bailey, AD/CVD Enforcement Group III, Office 9, Import Administration, International Trade Administration, U.S. Department of Commerce, 14th Street and Constitution Avenue, N.W., Washington, D.C. 20230; telephone: (202) 482-1102.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 C.F.R. Part 351 (2001).

SCOPE OF REVIEW

For purposes of this administrative review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this petition are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to this review is currently classifiable in the Harmonized Tariff Schedule of the United States (HTS) at subheadings: 7219110030, 7219110060, 7219120005, 7219120020, 7219120025, 7219120050, 7219120055, 7219120065, 7219120070, 7219120080, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and Customs purposes, the written description of the merchandise under investigation is dispositive.

AMENDMENT OF FINAL RESULTS

On October 15, 2002, the Department of Commerce (“the Department”) published its final results for the administrative review of the antidumping duty order on stainless steel plate in coils from Italy for the period May 1, 2000, through April 30, 2001. See Notice of Final Results of Antidumping Administrative Review: Stainless Steel Plate in Coils from Italy, 67 FR 63618 (October 15, 2002) (“Final Results”).

Interested parties did not file any ministerial error comments on these Final Results. However, the Department discovered that it unintentionally stated in the Final Results that the “all others” rate was 48.80 percent, rather than the correct all others rate of 39.69 percent as determined in the original less-than-fair value (“LTFV”) investigation. See Notice of Final Determination of Sales at Less Than Fair Value: Stainless Steel Plate in Coils from Italy, 64 FR 15458 (March 31, 1999) (“Final Determination LTFV”). Thus, the correct all others rate is the “all others” rate established in the Final Determination LTFV.

The Department's regulations define a ministerial error as an “error in addition, subtraction, or other arithmetic function, clerical error resulting from inaccurate copying, duplication, or the like, and any other similar type of unintentional error which the Secretary considers ministerial” (19 CFR 351.224(f)). Therefore, the Department is now correcting this ministerial error. The correct “all others” rate is 39.69 percent, in accordance with the Final Determination LTFV.

Therefore, we are amending the final results of the antidumping duty administrative review of stainless steel plate in coils from Italy to reflect the correction of this ministerial error.

No other changes have been made to the cash deposit requirements as provided in the Final Results.

We are issuing and publishing this determination and notice in accordance with sections 751(a)(1) and 777(i) of the Act.

Dated: December 5, 2002.
Faryar Shirzad,
Assistant Secretary for Import Administration.

[FR Doc. 02-31374 Filed 12-11-02; 8:45 am]

BILLING CODE 3510-DS-S